DEPARTMENT OF HOMELAND SECURITY

Coast Guard

33 CFR Part 105

[Docket No. USCG-2013-0397]

RIN 1625-AC06

Navigation and Navigable Waters; Technical, Organizational, and Conforming Amendments; Correction

AGENCY: Coast Guard, DHS.

ACTION: Final rule; correction.

SUMMARY: The Coast Guard published a final rule in the Federal Register on July 1, 2013, making non-substantive corrections throughout Title 33 of the Code of Federal Regulations. In fixing a non-substantive typographical error, that document inadvertently replaced two words. This rule corrects that action and reverts the inadvertently replaced language to its original wording.

DATES: Effective on July 10, 2013.

FOR FURTHER INFORMATION CONTACT: Mr. Paul Crissy, Coast Guard; telephone 202-372-1093, email Paul.H.Crissy@uscg.mil.

SUPPLEMENTARY INFORMATION:

1. Viewing Documents Associated With This Rule

To view the original notice and its accompanying document, go to http://www.regulations.gov, type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

B. Background

On July 1, 2013, the Coast Guard published its annual technical amendment to make non-substantive changes to Title 33 of the Code of Federal Regulations (78 FR 39163). This rule coincided with the annual recodification of Title 33 that occurs on July 1, 2013.

C. Need for Correction

The Coast Guard published a document in the Federal Register for this technical amendment. In 33 CFR 105.257(b)(2), the word “facility” was mistakenly changed to “vessel.” Additionally, the acronym “FSO” was mistakenly changed to “VSO.” The intended edit of § 105.257(b)(2) was only to delete an extra space from the parenthetical listing the Coast Guard's Homeport Web site—no other edits were to be made. This rule restores use of the words “facility” and “FSO” to the affected paragraph.

List of Subjects in 33 CFR Part 105

Maritime security, Reporting and recordkeeping requirements, Security measures.

Accordingly, 33 CFR part 105 is corrected by making the following correcting amendment:

PART 105—MARITIME SECURITY: FACILITIES

1. The authority citation for part 105 continues to read as follows:

Authority: 33 U.S.C. 1226, 1231; 46 U.S.C. 70103; 50 U.S.C. 191; 33 CFR 1.05-1, 6.04-11, 6.14, 6.16, and 6.19; Department of Homeland Security Delegation No. 0170.1.

§ 105.257 [Amended]

2. In § 105.257(b)(2), remove the word “vessel”, and add, in its place, the word “facility”; remove the text “VSO” and add, in its place, the text “FSO”.

Dated: July 3, 2013.
Kathryn A. Sinniger,
Chief, Office of Regulations and Administrative Law, U.S. Coast Guard.

[FR Doc. 2013-16516 Filed 7-9-13; 8:45 am]

BILLING CODE 9110-04-P